DEPARTMENT OF AGRICULTURE

Commodity Credit Corporation

Extension of the Comments Deadline on a Previously Published Notice

AGENCY: Commodity Credit Corporation, USDA.

ACTION: Notice and request for comments.

SUMMARY: The Commodity Credit Corporation (CCC) is seeking approval from the Office of Management and Budget (OMB) for the information collection activities necessary to provide customers with an interactive web site they can use to track United States Department of Agriculture (USDA) domestic commodity shipments. The new procedure will be more reliable and more efficient than the current procedure. A notice was published on September 21, 2000 (Volume 65, Number 1841), requesting comments on this new web site. Inadvertently, the prototype was not ready for vendors to try at that time; therefore, we are requesting approval for an extension of the deadline for comments.

DATE: Comments on this notice must be received on or before August 6, 2001 to be assured consideration.

FOR FURTHER INFORMATION CONTACT: Gregory Borchert, Chief, Planning and Analysis Division, Kansas City Commodity Office (KCCO), 6501 Beacon Drive, Kansas City, Missouri 64131-4676, telephone (816) 926-6509 or fax (816) 926-6767.

SUPPLEMENTARY INFORMATION: Title: Domestic Commodities Tracking Service (DCTS).

OMB Control Number: 0560-New.

Type of Request: Approval of a new information collection.

Abstract: The Commodity Credit Corporation (CCC) purchases agricultural commodities to meet program needs and other objectives. CCC issues invitations to purchase agricultural commodities at various times during the year. Vendors respond by making offers on the contracts. After contracts are awarded, the current process of tracking shipments requires manual documentation with data gathering provided by telephone and facsimile. The Farm Service Agency (FSA), Kansas City Commodity Office (KCCO) has developed information technology to assist in tracking of shipments of transported agricultural commodities. The DCTS is a customer service endeavor which has emphasis on improved service to all customers and increased efficiency in the shipping/delivery operations. An interactive web site is designed to provide our customers with an efficient, user friendly method for inquiring on the status of shipments. Recipients and other agencies may utilize this service to determine if commodities have been purchased, the target delivery date, and date shipment was made. Accurate tracking will provide timely shipment information allowing recipients to effectively schedule their workforce. DCTS will reduce or eliminate: paperwork, document handling, mail and telephone time, postage, facsimile, and telephone expenses. The users will include: commodity vendors; transportation carriers; State Distributing Agencies; FSA; Traffic Management Branch, Agricultural Marketing Service; and the Food and Nutrition Service. The equipment required to access DCTS is a personal computer, an internet service provider, and an internet browser version 4.0 or higher. Vendors will submit shipment and late delivery data electronically versus the current process of sending hard copies.

Regulations governing paperwork burdens on the public require that before an agency collects information from the public, the agency must receive approval from the Office of Management and Budget (OMB). In accordance with those regulations, CCC is seeking approval for DCTS to provide for the tracking of shipments through the Internet. A prototype of this system is available on the internet for review at: http://www.fsa.usda.gov/dcts. Once the user obtains access to the internet, enter the following to access the DCTS prototype: LOGIN ID: testvendor, and PASSWORD: abcd12345. The user will then click on Vendor Entry, highlighted in red. The user can enter his comments by clicking on the link, Federal Register Comments, highlighted in red, of the DCTS prototype.

Estimate of Burden: 3 minutes per response.

Respondents: Businesses and other for profit.

Estimated Number of Respondents: 67.

Estimated Number of Annual Responses per Respondent: 220.

Estimated Total Annual Burden on Respondents: 737 hours.

Proposed topics for comments include: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology.

Comments regarding this information collection requirement should be directed to the Office of Information and Regulatory Affairs, Office of Management and Budget, Attention: Desk Officer for Agriculture, Washington, DC 20503, and to Gregory Borchert, Chief, Planning and Analysis Division, Kansas City Commodity Office, 6501 Beacon Drive, Kansas City, Missouri 64133-4676, telephone (816) 926-6509 or fax (816) 926-1648. The user can enter his comments by clicking on the link, Federal Register Comments, highlighted in red, of the DCTS prototype.

All responses to this notice will be summarized and included in the request for OMB approval. All comments will become a matter of public record.

Signed at Washington, DC, on May 23, 2001.
James R. Little,
Executive Vice President, Commodity Credit Corporation.

[FR Doc. 01-14154 Filed 6-5-01; 8:45 am]

BILLING CODE 3410-05-U